DEPARTMENT OF TRANSPORATION

Federal Transit Administration

Notice of Meeting of the Transit Advisory Committee for Safety (TRACS)

AGENCY: Federal Transit Administration, DOT.

ACTION: Notice of meeting.

SUMMARY: This notice announces a public meeting of the Transit Advisory Committee for Safety (TRACS). TRACS is a Federal Advisory Committee established to provide information, advice and recommendations to the Secretary of the U.S. Department of Transportation and the Federal Transit Administrator on matters relating to the safety of public transportation systems.

DATES: The TRACS meeting will be held on March 29, 2016, from 8:30 a.m. to 5 p.m., and March 30, 2016, from 8:30 a.m. to 1 p.m. Contact Bridget Zamperini (see contact information below) by March 18, 2016, if you wish to be added to the visitor's list to gain access to the meeting.

ADDRESSES: The meeting will be held at the National Association of Home Builders, 1201 15th Street NW., Washington, DC 20005.

FOR FURTHER INFORMATION CONTACT: Bridget Zamperini, Office of Transit Safety and Oversight (TSO), Federal Transit Administration, 1200 New Jersey Avenue SE., Washington, DC 20590-0001 (telephone: 202-366-0306; or email: TRACS@dot.gov).

SUPPLEMENTARY INFORMATION: This notice is provided in accordance with the Federal Advisory Committee Act (Pub. L. 92-463, 5 U.S.C. App. 2). TRACS is composed of 29 members representing a broad base of expertise necessary to discharge its responsibilities. The tentative agenda for the March 29-30, 2016 meeting of TRACS is set forth below:

Agenda

(1) Introductory Remarks

(2) Facility Use/Safety Briefing

(3) Welcome New Members

(4) Updates from the FTA Office of Transit Safety and Oversight

(5) Issuance of New Tasks

(6) Work Group Discussions

(7) Public Comments

(8) Summary of Deliverables/Concluding Remarks

Members of the public wishing to attend and/or make an oral statement and participants seeking special accommodations at the meeting must contact Bridget Zamperini by March 18, 2016.

Members of the public may submit written comments or suggestions concerning the activities of TRACS at any time before or after the meeting at TRACS@dot.gov, or to the U.S. Department of Transportation, Federal Transit Administration, Office of Transit Safety and Oversight, Room E45-310, 1200 New Jersey Avenue SE., Washington, DC 20590. Attention: Bridget Zamperini.

Information from the meeting will be posted on FTA's public Web site at http://www.fta.dot.gov, on the TRACS Meeting Minutes page. Written comments submitted to TRACS will also be posted at the above web address.

Issued under the authority delegated at 49 CFR 1.91.
Therese W. McMillan,
Acting Administrator.

[FR Doc. 2016-05416 Filed 3-10-16; 8:45 am]

BILLING CODE P